DEPARTMENT OF COMMERCE

National Oceanic and Atmospheric Administration

RIN 0648-XU98

North Pacific Fishery Management Council; Public Meeting

AGENCY: National Marine Fisheries Service (NMFS), National Oceanic and Atmospheric Administration (NOAA), Commerce.

ACTION: Notice of a public meeting of the North Pacific Fishery Management Council's Crab Plan Team (CPT).

SUMMARY: The Crab Plan Team will meet in Seattle, WA.

DATES: The meeting will be held March 29 - April 1, 2010, from 9 a.m. to 5 p.m.

ADDRESSES: The meeting will be held at the Alaska Fishery Science Center, 7600 Sand Point Way N.E. Bldg 4, Seattle, WA 98115.

Council address: North Pacific Fishery Management Council, 605 W. 4th Avenue, Suite 306, Anchorage, AK 99501-2252.

FOR FURTHER INFORMATION CONTACT: Diana Stram; telephone: (907) 271-2809.

SUPPLEMENTARY INFORMATION: The Plan Team will address the following issues: Review Essential Fish Habitat (EFH) designations by species; review time series revision and strata; review net selectivity results and model sensitivity; review preliminary draft Crab Annual Catch Limits (ACLs)and rebuilding for Bristol Bay Red King Crab, snow crab, Tanner crab, Norton Sound Red King Crab, Pribilof Island Red King Crab, Pribilof Island Blue King Crab, Saint Matthew Blue King Crab, Aleutian Island Golden King Crab. The Agenda is subject to change, and the latest version will be posted at http://www.alaskafisheries.noaa.gov/npfmc/

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: March 5, 2010.
William D. Chappell,
Acting Director, Office of Sustainable Fisheries, National Marine Fisheries Service.

[FR Doc. 2010-5085 Filed 3-9-10; 8:45 am]

BILLING CODE 3510-22-S